DEPARTMENT OF TRANSPORTATION

Federal Aviation Administration

Research, Engineering and Development Advisory Committee

AGENCY: Federal Aviation Administration.

ACTION: Notice of meeting.

Pursuant to section 10(A)(2) of the Federal Advisory Committee Act (Pub. L. 92-463; 5 U.S.C. App. 2), notice is hereby given of a meeting of the FAA Research, Engineering and Development (R,E&D) Advisory Committee.

Name: Research, Engineering and Development Advisory Committee

Time and Date: September 20—9 a.m. to 5 p.m.

Place: Federal Aviation Administration, 800 Independence Avenue, SW.—Bessie Coleman Room, Washington, DC 20591.

Purpose: The meeting agenda will include receiving from the Committee guidance for FAA's research and development investments in the areas of air traffic services, airports, aircraft safety, human factors and environment and energy. We will also receive recommendations from the Separation Standards Working Group. Attendance is open to the interested public but seating is limited. Persons wishing to attend the meeting or obtain information should contact Gloria Dunderman at (202) 267-8937 or gloria.dunderman@faa.gov. Attendees will have to present picture ID at the security desk and escorted to the Bessie Coleman Room.

Members of the public may present a written statement to the Committee at any time.

Issued in Washington, DC on September 5, 2006.
John D. Rekstad,
Program Director, Research Planning Division.

[FR Doc. 06-7524 Filed 9-8-06; 8:45 am]

BILLING CODE 4910-13-M